DEPARTMENT OF LABOR

Mine Safety and Health Administration

Petitions for Modification

The following parties have filed petitions to modify the application of existing safety standards under section 101(c) of the Federal Mine Safety and Health Act of 1977.

1. Black Beauty Coal Company

[Docket No. M-2003-068-C]

Black Beauty Coal Company, P.O. Box 312, Evansville, Indiana 47702-0312 has filed a petition to modify the application of 30 CFR 75.1700 (Oil and gas wells) to its Francisco Mine (MSHA I.D. No. 12-02295) located in Gibson County, Indiana. The petitioner proposes to mine through oil and gas wells in lieu of plugging the wells and to establish and maintain a barrier around various abandoned wells. The petitioner asserts that the proposed alternative method would provide at least the same measure of protection as the existing standard.

2. Consolidation Coal Company

[Docket No. M-2003-069-C]

Consolidation Coal Company, Consol Plaza, 1800 Washington Road, Pittsburgh, Pennsylvania 15241-1421 has filed a petition to modify the application of 30 CFR 75.302 (Main mine fan) to its Loveridge No. 22 Mine (MSHA I.D. No. 46-01433) located in Marion County, West Virginia. The petitioner proposes to use an auxiliary fan to provide warm air for the slope area. The petitioner states the fan will be enclosed in fireproof housing that has an automatic fire suppression system installed. The petitioner has listed specific compliance procedures in this petition that would be followed when using the auxiliary fan. The petitioner asserts that the proposed alternative method would provide at least the same measure of protection as the existing standard.

3. Consolidation Coal Company

[Docket No. M-2003-070-C]

Consolidation Coal Company, Consol Plaza, 1800 Washington Road, Pittsburgh, Pennsylvania 15241-1421 has filed a petition to modify the application of 30 CFR 75.364(b)(2) (Weekly examination) to its Robinson Run Mine (MSHA I.D. No. 46-01318) located in Marion County, West Virginia. The petitioner requests a modification of the existing standard to allow airway check points to be established to monitor the area of the return air course from Main North 104 block to 3 West 12 block, due to deteriorating roof conditions. The petitioner proposes to establish check points 3W-1 and 3W-2 to measure air quality and quantity at the inlet to the affected air course, and check point 3W-3 would be established to measure air quality and quantity at the outlet from the affected air course. The petitioner asserts that the check points and all approaches to the check points will be maintained in a safe condition at all times; that tests for methane and the quantity of air will be determined on a weekly basis by a certified person at each check point, and that the persons making the examinations and tests will place his/her initials, date, and time in a record book kept on the surface for inspection by interested person(s). The petitioner asserts that to travel the affected area in its entirety to make weekly examinations would be hazardous to the person making such examinations. The petitioner asserts that the proposed alternative method would provide at least the same measure of protection as the existing standard.

4. Bowie Resources, Ltd.

[Docket No. M-2003-071-C]

Bowie Resources, Ltd., P.O. Box 483, Paonia, Colorado 81428 has filed a petition to modify the application of 30 CFR 75.701 (Grounding metallic frames, casings, and other enclosures of electric equipment) to its Bowie #3 Mine (MSHA I.D. No. 05-04758) located in Delta County, Colorado. The petitioner requests a modification of the existing standard to allow an alternative method of compliance for the grounding of a diesel generator. The petitioner proposes to use the 460 KW diesel powered generator to move electrically powered mining equipment in, out and around the mine only, and to perform work in areas outby section loading points where equipment is not required to be maintained permissible. The petitioner asserts that the proposed alternative method would provide at least the same measure of protection as the existing standard.

5. Bowie Resources, Ltd.

[Docket No. M-2003-072-C]

Bowie Resources, Ltd., P.O. Box 483, Paonia, Colorado 81428 has filed a petition to modify the application of 30 CFR 75.901 (Protection of low- and medium-voltage three-phase circuits used underground) to its Bowie #3 Mine (MSHA I.D. No. 054758) located in Delta County, Colorado. The petitioner requests a modification of the existing standard to allow an alternative method of compliance for the grounding of a diesel generator. The petitioner proposes to use a 460 KW diesel powered generator to move electrically powered mining equipment in, out, and around the mine only, and to perform work in areas outby section loading points where equipment is not required to be maintained permissible. The petitioner asserts that the proposed alternative method would provide at least the same measure of protection as the existing standard.

6. Bowie Resources, Ltd.

[Docket No. M-2003-073-C]

Bowie Resources, Ltd., P.O. Box 483, Paonia, Colorado 81428 has filed a petition to modify the application of 30 CFR 75.1909(b)(6) (Nonpermissible diesel-powered equipment; design and performance requirements) to its Bowie #3 Mine (MSHA I.D. No. 05-04758) located in Delta County, Colorado. The petitioner requests a modification of the existing standard to allow the use of an alternative method for front wheel brakes on a six wheeled road grader. The petitioner asserts that the proposed alternative method would provide at least the same measure of protection as the existing standard.

7. Newtown Energy, Inc.

[Docket No. M-2003-074-C]

Newtown Energy, Inc., P.O. Box 189, Comfort, West Virginia 25049 has filed a petition to modify the application of 30 CFR 75.1002 (Installation of electric equipment and conductors; permissibility) to its Coalburg #1 Mine (MSHA I.D. No. 46-08993) located in Boone County, West Virginia. The petitioner proposes to operate a 2,400 volt Joy 12CM27 continuous mining machine at the Coalburg #1 Mine. The petitioner asserts that the proposed alternative method would provide at least the same measure of protection as the existing standard.

8. Bowie Resources Limited

[Docket No. M-2003-075-C]

Bowie Resources Limited, P.O. Box 483, Paonia, Colorado 81428 has filed a petition to modify the application of 30 CFR 75.1726(a) (Performing work from a raised position; safeguards) to its Bowie #3 Mine (MSHA I.D. No. 05-04738) located in Delta County, Colorado. The petitioner requests modification of the existing standard to permit the use of modified diesel powered L.H.D.'s or “scoops” as elevated mobile work platforms at the Bowie #3 Mine. The petitioner has listed specific procedures in this petition that would be followed for compliance of its proposed alternative method. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before November 28, 2003. Copies of these petitions are available for inspection at that address.

Dated at Arlington, Virginia this 17th day of October 2003.
Marvin W. Nichols,
Director, Office of Standards, Regulations, and Variances.

[FR Doc. 03-27282 Filed 10-28-03; 8:45 am]

BILLING CODE 4510-43-P